DEPARTMENT OF TRANSPORTATION

Pipeline and Hazardous Materials Safety Administration

[Docket: PHMSA-00-7666]

Request for Public Comments and Office of Management and Budget (OMB) Approval of an Existing Information Collection (2137-0610)

AGENCY: Pipeline and Hazardous Materials Safety Administration (PHMSA), DOT.

SUMMARY: This notice requests public participation in the Office of Management and Budget (OMB) approval process regarding the renewal of an existing PHMSA collection of information for Pipeline Integrity Management in High Consequence Areas (Gas Transmission Pipeline Operators). PHMSA is requesting OMB approval for renewal of this information collection under the Paperwork Reduction Act of 1995. With this notice, PHMSA invites the public to submit comments over the next 60 days on ways to minimize the burden associated with collection of information related to pipeline integrity management in high consequence areas for natural gas transmission pipeline operators.

DATES: Comments must be submitted on or before February 27, 2006.

ADDRESSES: Comments should reference Docket No. PHMSA-00-7666 and may be submitted in the following ways:

• DOT Web site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web site: http://www.Regulations.gov. This site allows the public to enter comments on any Federal Register notice issued by any agency.

Instructions: You should identify the docket number, PHMSA-00-7666, at the beginning of your comments. If you submit your comments by mail, you should submit two copies. If you wish to receive confirmation that PHMSA received your comments, you should include a self-addressed stamped postcard. Internet users may submit comments at http://www.regulations.gov, and may access all comments received by DOT at http://dms.dot.gov by performing a simple search for the docket number. Note: All comments will be posted without changes or edits to http://dms.dot.gov including any personal information provided.

Privacy Act Statement

Anyone may search the electronic form of all comments received for any of our dockets. You may review DOT's complete Privacy Act Statement in the Federal Register published on April 11, 2000 (65 FR 19477) or you may visit http://dms.dot.gov.

FOR FURTHER INFORMATION CONTACT: William Fuentevilla at (202) 366-6199, or by e-mail at William.Fuentevilla@dot.gov.

SUPPLEMENTARY INFORMATION: Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, including the use of automated collection techniques or other forms of information technology.

This information collection request pertains to gas transmission operators regulated under 49 CFR Part 192. The Gas Transmission Integrity Management rule became effective February 14, 2004. The regulation improves pipeline safety through (1) accelerating the integrity assessment of pipelines in high consequence areas, (2) improving integrity management systems within companies, (3) improving the government's role in reviewing the adequacy of integrity programs and plans, and (4) providing increased public assurance in pipeline safety.

This information collection requires operators of gas transmission pipelines in high consequence areas to submit to PHMSA a written integrity management program and records showing compliance with 49 CFR Part 192, Subpart O. Operators must maintain this record for the life of the pipeline and PHMSA or State regulators may review it during inspections. The regulation requires that each operator submit the four overall performance measures to PHMSA semi-annually. This information collection supports the DOT strategic goal of safety by reducing the number of incidents in natural gas transmission pipelines.

As used in this notice, “information collection” includes all work related to preparing and disseminating information related to this recordkeeping requirement including completing paperwork, gathering information, and conducting telephone calls.

Type of Information Collection Request: Renewal of Existing Collection.

Title of Information Collection: Pipeline Integrity Management in High Consequence Areas (Gas Transmission Pipeline Operators).

Respondents: 721.

Estimated Total Annual Burden on Respondents: 1,030,309 hours.

Issued in Washington, DC, on December 21, 2005.
Florence L. Hamn,
Director of Regulations, Office of Pipeline Safety.

[FR Doc. 05-24632 Filed 12-28-05; 8:45 am]

BILLING CODE 4910-60-P